DEPARTMENT OF COMMERCE

National Oceanic and Atmospheric Administration

50 CFR Part 648

[Docket No. 071212833-7843-01]

RIN 0648-XB94

Fisheries of the Northeastern United States; Atlantic Bluefish Fisheries; 2008 Atlantic Bluefish Specifications

AGENCY: National Marine Fisheries Service (NMFS), National Oceanic and Atmospheric Administration (NOAA), Commerce.

ACTION: Proposed rule; request for comments.

SUMMARY: NMFS proposes 2008 specifications for the Atlantic bluefish fishery, including state-by-state commercial quotas, a recreational harvest limit, and recreational possession limits for Atlantic bluefish off the east coast of the United States. The intent of these specifications is to establish the allowable 2008 harvest levels and possession limits to attain the target fishing mortality rate (F), consistent with the stock rebuilding program in Amendment 1 to the Atlantic Bluefish Fishery Management Plan (FMP).

DATES: Written comments must be received no later than 5 p.m. eastern standard time, on January 28, 2008.

ADDRESSES: You may submit comments, identified by 0648-XB94, by any one of the following methods:

• Electronic Submissions: Submit all electronic public comments via the Federal e-Rulemaking portal: http://www.regulations.gov,

• Fax: (978) 281-9135, Attn: Regional Administrator.

• Mail: Patricia A. Kurkul, Regional Administrator, NMFS, Northeast Regional Office, One Blackburn Drive, Gloucester, MA 01930. Mark the outside of the envelope: “Comments on 2008 Bluefish Specifications”,

Instructions: All comments received are part of the public record and will generally be posted to http://regulations.gov without change. All Personal Identifying Information (for example, name, address, etc.) voluntarily submitted by the commenter may be publically accessible. Do not submit Confidential Business Information or otherwise sensitive or protected information.

NMFS will accept anonymous comments. Attachments to electronic comments will be accepted in Microsoft Word, Excel, WordPerfect, or Adobe PDF file formats only.

Copies of the specifications document, including the Environmental Assessment and Initial Regulatory Flexibility Analysis (EA/IRFA) and other supporting documents for the specifications, are available from Daniel Furlong, Executive Director, Mid-Atlantic Fishery Management Council, Room 2115, Federal Building, 300 South Street, Dover, DE 19901-6790. The specifications document is also accessible via the Internet at http://www.nero.noaa.gov.

FOR FURTHER INFORMATION CONTACT: Tobey Curtis, Fishery Policy Analyst, (978) 281-9273.

SUPPLEMENTARY INFORMATION:

Background

The regulations implementing the FMP are prepared by the Mid-Atlantic Fishery Management Council (Council) and appear at 50 CFR part 648, subparts A and J. Regulations requiring annual specifications are found at § 648.160. The management unit for bluefish (Pomatomus saltatrix) is U.S. waters of the western Atlantic Ocean.

The FMP requires that the Council recommend, on an annual basis, total allowable landings (TAL) for the fishery, consisting of a commercial quota and recreational harvest limit (RHL). A research set aside (RSA) quota is deducted from the bluefish TAL (after any applicable transfer) in an amount proportional to the percentage of the overall TAL as allocated to the commercial and recreational sectors. The annual review process for bluefish requires that the Council's Bluefish Monitoring Committee (Monitoring Committee) review and make recommendations based on the best available data, including, but not limited to, commercial and recreational catch/landing statistics, current estimates of fishing mortality, stock abundance, discards for the recreational fishery, and juvenile recruitment. Based on the recommendations of the Monitoring Committee, the Council makes a recommendation to the Northeast Regional Administrator (RA). This FMP is a joint plan with the Atlantic States Marine Fisheries Commission (Commission); therefore, the Commission meets during the annual specification process to adopt complementary measures.

The Council's recommendations must include supporting documentation, concerning the environmental, economic, and social impacts of the recommendations. NMFS is responsible for reviewing these recommendations to assure they achieve the FMP objectives, and may modify them if they do not. NMFS then publishes proposed specifications in the Federal Register. After considering public comment, NMFS will publish final specifications in the Federal Register.

In July 2007, the Monitoring Committee met to discuss the updated estimates of bluefish stock biomass and project fishery yields for 2008. In August 2007, the Council approved the Monitoring Committee's recommendations and the Commission's Bluefish Board (Board) adopted complementary management measures.

Proposed Specifications

Updated Model Estimates

According to Amendment 1 to the FMP (Amendment 1), overfishing for bluefish occurs when F exceeds the fishing mortality rate that allows maximum sustainable yield (FMSY), or the maximum F threshold to be achieved. The stock is considered overfished if the biomass (B) falls below the minimum biomass threshold, which is defined as ½ BMSY. Amendment 1 also established that the long-term target F (F0.1) is 90 percent of FMSY, and the long-term target B is BMSY = 237 million lb (107,500 mt). The rebuilding plan established through Amendment 1 stipulates that the target fishing mortality rate (Ftarget) in 2008 be set at F = 0.31, or the status quo fishing mortality rate (Fyear), whichever is less.

An age-structured assessment program (ASAP) model for bluefish was presented to the 41st Stock Assessment Review Committee (SARC-41) in 2005, and estimated annual biomass and F through the 2004 fishing year, as well as updated biological reference points. The original ASAP model output was revised in 2006. The ASAP model was updated for the purpose of estimating the current status of the bluefish stock; i.e., 2006 biomass and F estimates were compared to the corrected ASAP model output, in order to enable the Monitoring Committee to recommend 2008 specifications using landing information and survey indices through the 2006 fishing year. Additionally, a projection of biomass through 2010 was done using F target = F2006 = 0.15. This projection identified a target yield for 2008 and also indicated that biomass is likely to reach the target before the 2010 rebuilding deadline. According to the biological reference points specified in Amendment 1 to the FMP, and the most recent estimates of stock biomass, the bluefish stock was rebuilt to above BMSY in 2006. The Monitoring Committee, however, supported the model updates and corrected biological reference points from SARC-41 that derived the following new estimates of biomass and projected fishery yields: (1) An estimated stock biomass for 2006, B2006 = 307.5 million lb (139,496 mt); and (2) projected yields for 2008 using Ftarget = F2006 = 0.15. Based on the updated biological reference points, and the 2006 estimate of bluefish stock biomass, the bluefish stock is not considered overfished: B2006 = 307.5 million lb (139,496 mt) is greater than the minimum biomass threshold, ½ BMSY = 162 million lb (73,526 mt). Estimates of fishing mortality have declined from 0.41 in 1991 to 0.15 in 2006. The new model results also conclude that the Atlantic stock of bluefish is not experiencing overfishing; i.e., the most recent F (F2006 = 0.15) is less than the maximum F overfishing threshold specified by SARC-41 (FMSY = 0.19).

2008 TAL

The FMP specifies that the bluefish stock is to be rebuilt to BMSY over a 9-year period (i.e., by the year 2010). The FMP requires the Council to recommend, on an annual basis, a level of total allowable catch (TAC) consistent with the rebuilding program in the FMP. An estimate of annual discards is deducted from the TAC to calculate the TAL that can be made during the year by the commercial and recreational fishing sectors combined. The TAL is composed of a commercial quota and a RHL. The FMP rebuilding program requires the TAC for any given year to be set based either on the target F resulting from the stock rebuilding schedule specified in the FMP (0.31 for 2008), or the F estimated in the most recent fishing year (F2006 = 0.15), whichever is lower. Therefore, the 2008 recommendation is based on an estimated F of 0.15. An overall TAC of 31.887 million lb (14,464 mt) was recommended as the coast-wide TAC by the Council at its August 2007 meeting to achieve the target fishing mortality rate, (F = 0.15) in 2008, and to ensure that the bluefish stock continues toward the long-term biomass target, BMSY = 324 million lb (147,052 mt), consistent with the rebuilding schedule specified in Amendment 1. Based on the 2006 biomass estimate (307.5 million lb (139,496 mt)), the bluefish stock is well above the minimum biomass threshold (½ BMSY = 162 million lb (73,526 mt)), but is still slightly below the long-term biomass target (BMSY = 324 million lb (147,052 mt)).

The proposed TAL for 2008 is derived by subtracting an estimate of discards of 3.734 million lb (1,694 mt), the average discard level from 2000-2006, from the TAC. After subtracting estimated discards, the 2008 TAL would be approximately 1.4 percent greater than the 2007 TAL, or 28.156 million lb (12,771 mt). Based strictly on the percentages specified in the FMP (17 percent commercial, 83 percent recreational), the commercial quota for 2008 would be 4.787 million lb (2,171 mt), and the RHL would be 23.370 million lb (10,600 mt) in 2008. In addition, up to 3 percent of the TAL may be allocated as RSA quota. The discussion below describes the recommended allocation of TAL between the commercial and recreational sectors, and its proportional adjustment downward to account for the recommended bluefish RSA quota.

Proposed Commercial Quota and Recreational Harvest Limit

The FMP stipulates that, in any year in which 17 percent of the TAL is less than 10.500 million lb (4,763 mt), the commercial quota may be increased up to 10.500 million lb (4,763 mt) as long as the recreational fishery is not projected to land more than 83 percent of the TAL in the upcoming fishing year, and the combined projected recreational landings and commercial quota would not exceed the TAL. At the Monitoring Committee meeting, Council staff estimated projected recreational landings for the 2008 fishing year by using simple linear regression of the recent (2000-2006) temporal trends in recreational landings. Recreational landings are projected to reach 18.864 million lb (8,557 mt) in 2008. If the maximum commercial quota of 10.500 million lb (4,763 mt) is established within a TAL of 28.156 million lb (12,771 mt), this would leave 17.656 million lb (8,009 mt) for the recreational fishery. This amount is less than the projected 2008 recreational landings described above, which, when added to the maximum allowable commercial quota of 10.500 million lb (4,763 mt), would exceed the overall TAL. Therefore, because the FMP and regulations governing the bluefish fishery do not allow for this maximum allowable commercial quota, the Monitoring Committee and the Council recommended, and NMFS proposes, to transfer 4.088 million lb (1,854 mt) from the initial recreational allocation of 23.370 million lb (10,600 mt), resulting in a proposed 2008 commercial quota of 8.875 million lb (4,026 mt) and a RHL of 19.281 million lb (8,746 mt), which is 2.2 percent greater than the projected 2008 recreational landings. These allocations were also recommended by the Commission to be implemented by the states for fisheries within state waters.

RSA

A request for proposals was published to solicit research proposals to utilize RSA in 2006 based on research priorities identified by the Council (December 27, 2006; 71 FR 77726). One research project that would utilize bluefish RSA has been preliminarily approved by the RA and forwarded to the NOAA Grants Office. Therefore, a 50,000-lb (22,680-kg) RSA quota is proposed for use by this, or other potential research projects during 2008. This proposed rule does not represent NOAA's approval of any RSA-related grant award, which will be included in a subsequent action. Consistent with the allocation of the bluefish RSA, the proposed commercial quota for 2008 would be reduced to 8.859 million lb (4,018 mt) and the proposed RHL reduced to 19.246 million lb (8,730 mt).

Proposed Recreational Possession Limit

The Council recommends, and NMFS proposes, to maintain the current recreational possession limit of up to 15 fish per person to achieve the RHL.

Proposed State Commercial Allocations

The proposed state commercial allocations for the recommended 2008 commercial quota are shown in Table 1, based on the percentages specified in the FMP. The table shows the allocations both before and after the deduction made to reflect the proposed RSA allocation.

Table 1. Proposed Bluefish Commercial State-by-State Allocation for 2008
States | Quota: Percent Share | 2007 Commercial Quota: (Ib) | 2007 Commercial Quota: (kg) | 2008 Commercial Quota (lb): RSA Deducted | 2008 Commercial Quota (kg): RSA Deducted
ME | 0.6685 | 59,329 | 26,911 | 59,224 | 26,864
NH | 0.4145 | 36,787 | 16,686 | 36,722 | 16,657
MA | 6.7167 | 596,107 | 270,392 | 595,049 | 269,912
RI | 6.8081 | 604,219 | 274,072 | 603,146 | 273,585
CT | 1.2663 | 112,384 | 50,977 | 112,185 | 50,887
NY | 10.3851 | 921,678 | 418,070 | 920,041 | 417,328
NJ | 14.8162 | 1,314,938 | 596,452 | 1,312,603 | 595,393
DE | I .8782 | 166,690 | 75,610 | 166,394 | 75,476
MD | 3.0018 | 266,410 | 120,843 | 265,937 | 120,628
VA | 11.8795 | 1,054,306 | 478,230 | 1,052,433 | 477,380
NC | 32.0608 | 2,845,396 | 1,290,663 | 2,840,343 | 1,288,371
SC | 0.0352 | 3,124 | 1,417 | 3,118 | 1,414
GA | 0.0095 | 843 | 382 | 842 | 382
FL | 10.0597 | 892,798 | 404,971 | 891,213 | 404,252
Total | 100.0001 | 8,875,000 | 4,025,674 | 8,859,240 | 4,018,529

Classification

Pursuant to section 304 (b)(1)(A) of the Magnuson-Stevens Act, the NMFS Assistant Administrator has determined that this proposed rule is consistent with the Atlantic Bluefish FMP, other provisions of the Magnuson-Stevens Act, and other applicable law, subject to further consideration after public comment.

This action is exempt from review under E.O. 12866.

An initial regulatory flexibility analysis (IRFA) was prepared, as required by section 603 of the Regulatory Flexibility Act (RFA). The IRFA describes the economic impact this proposed rule, if adopted, would have on small entities. A description of the action, why it is being considered, and the legal basis for this action are contained at the beginning of this preamble and in the SUMMARY. A summary of the analysis follows. A copy of this analysis is available from the Council (see ADDRESSES).

No large entities participate in this fishery, as defined in section 601 of the RFA. Therefore, there are no disproportionate effects on small versus large entities. Information on costs in the fishery are not readily available and individual vessel profitability cannot be determined directly. Therefore, changes in gross revenues were used as a proxy for profitability. In the absence of quantitative data, qualitative analyses were conducted.

The participants in the commercial sector were defined using two sets of data. First, the Northeast dealer reports were used to identify any vessel that reported having landed 1 lb (0.45 kg) or more of bluefish during calendar year 2006 (the last year for which there is complete data). These dealer reports identified 725 vessels that landed bluefish in states from Maine to North Carolina. However, this database does not provide information about fishery participation in South Carolina, Georgia, or Florida. South Atlantic Trip Ticket reports were used to identify 820 vessels¹ that landed bluefish in North Carolina and 567 vessels that landed bluefish on Florida's east coast. There were no landings of bluefish in South Carolina in 2006, and bluefish landings in Georgia were near zero, representing a negligible proportion of the total bluefish landings along the Atlantic Coast in 2006. In recent years, approximately 2,063 party/charter vessels may have been active in the bluefish fishery and/or have caught bluefish.

¹ Some of these vessels were identified in the Northeast dealer data, therefore double counting is possible.

The IRFA analyzed three alternatives (including the no action/status quo alternative) for allocating the TAL between the commercial and recreational sectors of the fishery. Consistent with the FMP's rebuilding schedule and the status of the resource as assessed by the revised SARC-41 report and the updated model projections, alternatives one and two were based on an overall TAL of 28.156 million lb (12,771 mt) and included an RSA quota of 50,000 lb (22,680 kg). The no action alternative includes an overall TAL of 27.762 million lb (12,593 mt) and an RSA quota of 50,000 lb (22,680 kg). Outside of the difference in the overall TAL specification, the alternatives differed only in the manner in which the TAL was allocated between the commercial and recreational sectors.

The recommended alternative, before RSA deduction, would allocate 8.875 million lb (4,026 mt) to the commercial sector and 19.281 million lb (8,746 mt) to the recreational sector. Alternative 2, the most restrictive alternative, would have allocated 4.787 million lb (2,171 mt) to the commercial sector and 23.370 million lb (10,600 mt) to the recreational sector, reflecting the percentage allocations specified in the FMP (i.e., the 17-percent commercial/83-percent recreational sector split). Alternative 3 would have allocated 8.689 million lb (3,941 mt) to the commercial sector and 19.073 million lb (8,651 mt) to the recreational sector, reflecting the commercial level that was place in 2007 (i.e., status quo/no action alternative).

For the commercial sector, the recommended coast-wide quota is approximately 27 percent higher than 2006 commercial landings. Approximately 19 percent of the TAL was not harvested during the 2006 fishing year and, based on available data, the 2007 TAL is also not expected to be fully harvested. Only three states, Rhode Island, New York, and North Carolina, fully harvested their initial bluefish quotas and received allocation transfers from other states in 2006. Four additional states, New Hampshire, Massachusetts, New Jersey, and Virginia, harvested more than 50 percent of their bluefish quotas, while the remaining states only harvested between 0 and 40 percent of their allocations. Given these recent trends in landings, it is unlikely that the proposed TAL will be fully harvested in 2008, therefore resulting in no overall coastwide economic impacts on the bluefish fishery. For states that did not harvest their quotas in 2006, the proposed 2008 quotas are also not expected to result in any detrimental impacts. For states that exceeded their initial quota allocations in 2006, but received quota transfers from other states, the apparent economic losses would likely be mitigated by quota transfers during 2008, therefore resulting in no overall impacts. For states that exceeded their post-transfer quota allocations in 2006 (i.e., New York), any economic impacts would be solely due to the overage in landings.

Impacts on individual commercial vessels were assessed by conducting a threshold analysis using the dealer reports for the 725 vessels that landed bluefish from Maine through North Carolina. The analysis projected that there would be no revenue change for 481 out of 725 vessels, while 238 vessels could incur slight revenue losses of less than 5 percent. Another six vessels, all identified with home ports in New York, could incur revenue losses of between 5 percent and 29 percent. According to a threshold impact analysis that compared 2006 landings from the Northeast dealer reports to the recommended 2008 adjusted commercial quota allocation, New York could experience decreases in landings of up to 14 percent, while overall coastwide landings would increase by approximately 27 percent. This is due to the fact that New York's proposed 2008 quota is smaller than its actual 2006 landings.

The impacts of the proposed alternative on commercial vessels in the South Atlantic were assessed using trip ticket data. The analysis concluded that, as a consequence of the 2008 recommended allocation compared to 2006 landings, there would be no revenue reductions in North Carolina or Florida. The FMP provision that allows commercial quota to be transferred from one state to another may result in transfers of quota to New York and North Carolina, from other states, thus mitigating any potential negative revenue impacts. While not assured, such transfers have been made annually in recent years, including 2006 and 2007.

The analysis of Alternative 2 concluded that, for the commercial sector, there would be a 32-percent decrease in total potential commercial landings in 2008 compared to 2006 landings. The analysis of impacts on individual commercial vessels projected that there would be no revenue change for 62 of the 725 vessels that landed bluefish in 2006, while 610 vessels could incur slight revenue losses (less than 5 percent). Another 31 vessels could incur revenue losses of between 5 percent and 29 percent, while 22 vessels could incur revenue losses of greater than 29 percent. Most of the vessels projected to incur revenue losses of greater than 5 percent had home ports in Massachusetts, New York, New Jersey, or North Carolina. Again, the commercial quota transfer provision could be expected to mitigate some or all of these impacts, although to a lesser extent than in the other alternatives, as all states would have less quota to transfer.

The impacts of Alternative 2 on commercial vessels in the South Atlantic area were assessed using trip ticket data. The analysis concluded that, compared to 2006, landings of bluefish in 2008 could be reduced by approximately 47 percent in North Carolina. However, on average, reductions in revenues due to the potential decrease in landings would be approximately 4 percent for vessels that land in North Carolina. No projected revenue losses are expected for vessels that land in Florida.

The analysis of Alternative 3 concluded that, for the commercial sector, there would be a 24-percent increase in total potential commercial landings in 2008 compared to actual landings in 2006. The analysis of impacts on individual commercial vessels projected that there would be no change in revenue for 298 of the 725 vessels that landed bluefish in 2006, while 407 could incur slight revenue losses (less than 5 percent). Another 20 vessels could incur revenue losses of between 5 percent and 29 percent, and zero vessels would incur revenue losses of greater than 29 percent. The vessels projected to incur revenue losses of greater than 5 percent had home ports in New York and New Jersey.

The impacts of Alternative 3 on commercial vessels in the South Atlantic area were assessed using trip ticket data. The analysis concluded that these impacts would result in revenue reductions, associated with an estimated 9 percent landings decrease, of approximately 1 percent for 820 vessels identified as landing in North Carolina, and no revenue reductions for vessels landing in Florida.

For the recreational sector of the fishery, there were no negative revenue impacts projected to occur with regard to the recommended RHL, because this level would be greater than the recreational landings in 2006 (16.894 million lb (7,663 mt)), and above the recreational landings projected for 2008 (18.864 million lb (8,557 mt)). The recommended RHL is higher than the other two other alternatives, to account for this increase in expected landings. The recreational fishery impacts are not expected to be substantial under any of the alternatives, because the RHL under each alternative is greater than the projected landings for 2008. Although there is very little empirical evidence regarding the sensitivity of charter/party anglers to regulation, it is anticipated that the proposed harvest levels will not affect the demand for charter/party boat trips.

The IRFA also analyzed the impacts on revenues of the proposed RSA amount and found that the social and economic impacts are minimal. Assuming that the full RSA of 50,000 lb (22,680 kg) is landed and sold to support the proposed research project (a supplemental finfish survey in the Mid-Atlantic), then all of the participants in the fishery would benefit from the anticipated improvements in the data underlying the stock assessments. Because the recommended overall commercial quota is higher than 2006 landings, no overall negative impacts are expected in the commercial sector. Based on recent trends in the recreational fishery, recreational landings will more than likely remain below the recommended harvest level in 2008.

Authority: 16 U.S.C. 1801 et seq.

Dated: December 19, 2007.
Samuel D. Rauch III,
Deputy Assistant Administrator for Regulatory Programs, National Marine Fisheries Service.

[FR Doc. E7-25080 Filed 12-26-07; 8:45 am]

BILLING CODE 3510-22-S